FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than December 26, 2019.

A. Federal Reserve Bank of Chicago (Colette A. Fried, Assistant Vice President) 230 South LaSalle Street, Chicago, Illinois 60690-1414:

1. James Bellinson, Bloomfield Township, Michigan; individually, and together with Eric Todd, York Township, Michigan; Neil Glaser, Brooklyn, New York; and Susan Bellinson, City Island, New York, as members of a group acting in concert to acquire voting shares of Level One Bancorp, Inc., and thereby indirectly acquire voting shares of Level One Bank, both of Farmington Hills, Michigan.

2. The Triller/Schwertfeger Voting Trust, Frederick F. Schwertfeger, Brookfield, Wisconsin, trustee; the Horicon Bank Profit Sharing and Employee Stock Ownership Trust, Frederick F. Schwertfeger, trustee; Frederick F. Schwertfeger; Frederick C. Schwertfeger, Elm Grove, Wisconsin; Alexandra G. Solanki, Wauwatosa, Wisconsin; and Gail M. Jones, Woodinville, Washington; as members of a group acting in concert with the Schwertfeger Family Control Group to retain voting shares of Sword Financial Corporation and thereby indirectly retain voting shares of Horicon Bank, both of Horicon, Wisconsin.

Board of Governors of the Federal Reserve System, December 6, 2019.
Yao-Chin Chao,
Assistant Secretary of the Board.

[FR Doc. 2019-26726 Filed 12-11-19; 8:45 am]

BILLING CODE P